DEPARTMENT OF ENERGY

Federal Energy Regulatory Commission

[Docket No. RP01-236-000]

Transcontinental Gas Pipe Line Corporation; Notice of Tariff Filing

March 7, 2001.

Take notice that on February 28, 2001, Transcontinental Gas Pipe Line Corporation (Transco) tendered for filing as part of its FERC Gas Tariff, Third Revised Volume No. 1, certain new and revised tariff sheets. The enclosed tariff sheets, which are enumerated in Appendix B to the filing, with a proposed effective date of March 31, 2001.

Transco proposes herein to revise its tariff to reflect new customer services and business practices that will be available on 1Linesm, a new, state of the art, internet-based, service delivery computer system that will replace Transco's current computer system. As is described more fully herein, Transco's proposed tariff modifications relate specifically to the following areas:

Offering Operational Balancing Agreements at wellhead receipt points and processing plants on the Transco system;

Revising imbalance resolution provisions to establish Operational Impact Areas, implementing imbalance netting and trading and modifying the existing cash out mechanism;

Establishing Operational Controls to address adverse operational conditions which impact flexibility;

Modifying the Nomination, confirmation, and Predetermined Allocation methodologies used to determine the daily allocations and, if necessary, capacity reductions, at receipt and delivery points;

Formalizing in Transco's tariff the pooling capabilities provided by Transco by adopting a new Rate Schedule Pooling and a Form of Service Agreement for pooling service; and

Modifying and formalizing certain pipeline business practices including those relating to capacity release, scheduling equality, liquefiable hydrocarbons processing, billing and payment, daily demand rates as well as other operational and business practices on the Transco system.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the we at http://www.ferc.fed.us/online.rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-6163 Filed 3-12-01; 8:45 am]

BILLING CODE 6717-01-M